DEPARTMENT OF LABOR

Employment and Training Administration

Notice of Availability of Funds and Solicitation for Grant Applications (SGA) for Community-Based Job Training Grants

AGENCY: Employment and Training Administration, U.S. Department of Labor.

Announcement Type: Notice of Solicitation for Grant Applications.

Funding Opportunity Number: SGA/DFA PY 09-07.

Catalog of Federal Domestic Assistance (CFDA) Number: 17.269.

Key Dates

The closing date for receipt of applications under this announcement is April 29, 2010. Applications must be received no later than 4 p.m. Eastern Time. A pre-recorded Webinar will be on-line (http://www.workforce3one.org) and accessible for viewing on April 6, 2010, and will be available for viewing any time after that date. While a review of this Webinar is encouraged it is not mandatory that applicants view this recording.

ADDRESSES: Mailed applications must be addressed to the U.S. Department of Labor, Employment and Training Administration, Division of Federal Assistance, Attention: Donna Kelly, Grant Officer, Reference SGA/DFA PY 09-07, 200 Constitution Avenue, NW., Room N4716, Washington, DC 20210. For complete “Application and Submission Information,” please refer to section IV.

SUMMARY: The Employment and Training Administration (ETA), U.S. Department of Labor (DOL, or the Department), announces the availability of approximately $125 million in grant funds for Community-Based Job Training Grants (CBJTGs).

Community-Based Job Training Grants will be awarded through a competitive process to support workforce training for high-growth/high-demand industries through the national system of community, technical, and Tribal colleges. In order to be eligible for consideration under this solicitation, the applicant must be either: (1) An individual Community or Technical College, such as a public community college, a nonprofit community college, a Tribally controlled college, or a Tribally controlled university; (2) a Community College District; (3) a State Community College System; (4) a One-Stop Career Center in partnership with its Local Workforce Investment Board, that specifies one or more community or technical colleges where education/training activities will occur; or (5) an applicant proposing to serve an educationally underserved community without access to community or technical colleges that meet the requirements in section III.A.5. See section III.A for additional information related to eligible applicants.

It is anticipated that awards will range generally from $1 million to $3 million. The exception is that applicants that include three or more community, technical, or Tribal colleges will be considered “consortium applications,” and may request an award ranging from $1 million to $5 million. See section III.B for additional information related to consortium applications. ETA expects to allot up to $50 million of the total designated funds to organizations that have never received a grant through a CBJTG SGA.

This Solicitation provides background information and describes the application submission requirements, outlines the process that eligible entities must use to apply for funds covered by this Solicitation, and details how grantees will be selected. Applicants should read the entire SGA and note specific sections that contain required information, such as in section II.A, section III.B, and section IV. B, where failure to comply will be considered non-responsive and those applicants will then not be considered for funding.

The Department of Labor is committed to providing the public with an open and transparent grant selection process and to providing useful information to assist prospective applicants with developing quality proposals. One way to achieve these goals is through public access to selected and non-selected grant applications. Applicants are advised that the information they submit in response to this solicitation may be posted on a publicly accessible Web site or may otherwise be made available to the public.

SUPPLEMENTARY INFORMATION:

I. Funding Opportunity Description

The Community-Based Job Training Grants (CBJTGs) are designed to support workforce training for high-growth/high-demand industries through the national system of community and technical colleges. Grants under this SGA will fund projects that provide workers with education/training that will prepare them to enter and advance in high growth and emerging industries.

Successful education/training programs funded through this SGA will prepare participants for employment in high growth and emerging industries, and will: (1) Target skills and competencies in demand by the industries described in section I.B of this SGA; (2) provide education/training for jobs currently available or job openings that are anticipated during the life of the grant; (3) educate individuals about opportunities for career advancement and wage growth within the targeted industry and/or occupation, and provide comprehensive coaching to help individuals take advantage of those opportunities; and (4) result in an employer- or industry-recognized credential (which can include an educational certificate or degree, an occupational license, an industry-sponsored certificate or certification, as well as a Registered Apprenticeship certificate or degree). Applicants must propose projects that target incumbent workers, dislocated workers, and/or unemployed workers. Further, applicants may serve individuals at different education levels and stages within their career. ETA also encourages applicants to provide supportive services and leverage Workforce Investment Act (WIA) core and/or intensive services to help participants overcome barriers to employment, as appropriate. For more information on targeted populations, see section III.F of this SGA.

To ensure quality education/training within a limited timeframe, applicants are strongly encouraged to use existing curricula and strategies to deliver education/training. Where appropriate, applicants may modify existing curricula. Recognizing the long-term needs of workers, it is strongly recommended that education/training lead to portable and/or stackable industry-recognized credentials.

The next two sections describe key elements of the SGA.

A. Good Jobs for Everyone

As a key component of the workforce system, community colleges are critical stakeholders in meeting President Barack Obama's call for Americans to complete at least one year of post-secondary school or career training. Community colleges also help advance the Department's goal of “Good Jobs for Everyone” by increasing opportunities for America's workers to acquire the skills to succeed in a knowledge-based economy and strengthen the nation's economy through a highly skilled workforce. Good jobs are jobs that can support a family by increasing incomes; jobs that are safe and secure, and give people a voice in the workplace; jobs that provide good benefits and workplace flexibility for family and personal care-giving; jobs that are sustainable, such as green jobs; and jobs that maintain and preserve a strong middle-class.

Community colleges also serve a key role in promoting and advancing the nation's economic recovery efforts by assisting those most impacted by the recession through opportunities for training, skill upgrades, and preparation for a career in high growth and emerging industries. This program will help participants find and retain employment, while leveraging WIA funds and other investments funded by the American Recovery and Reinvestment Act (Recovery Act) intended to create jobs and promote economic growth.

B. Industry Focus

Projects funded through this SGA will teach workers necessary skills for and help them pursue careers in high growth and emerging industry sectors.

1. High Growth and Emerging Industries

ETA encourages applicants to define high growth or emerging industries in the context of their local or regional economy. An industry targeted by applicants must benefit from expanded education/training or a better skilled workforce, and meet one or more of the following criteria to be considered a high growth or emerging industry in a local area for the purposes of this SGA: (1) It is projected to add substantial numbers of new jobs to the economy; (2) it is being transformed by technology and innovation requiring new skill sets for workers; (3) it has a significant impact on the economy or the growth of other industries; or (4) it is a new and emerging industry projected to grow. Applicants may draw from a variety of resources for supporting data that demonstrates that an industry is high growth or emerging, including: Traditional labor market information, such as industry and occupational projections; industry data from trade or industry associations, labor organizations, or direct information from the local employers or industry; information on the local and/or regional economy from economic development agencies; and other transactional data, such as job vacancies. Applications must include strong supporting evidence and data that are current, relevant, and specific to the local areas or communities where grant-funded education/training and placement activities will be conducted, and that discussions with local employers indicate that the proposed training is responsive to their needs.

A wide range of industries may meet the criteria above in local and regional areas around the country, such as health care, transportation, and advanced manufacturing. As applicants consider the high growth and emerging industry on which their application will focus, ETA encourages applicants to consider targeting high growth or emerging green industries.

2. Proposed Training Activities

The purpose of this SGA is to fund projects that provide training, education, and job placement assistance to prepare workers for employment in high growth and other emerging industries as described in section I.B of this SGA. A community college, Tribally controlled college or university, or technical college must be the primary training provider through the grant (unless the applicant is applying under the criterion described in section III.A.5 and is a public, accredited institution of higher education or an alternate educational entity), and in addition to the required partners described in section III.C.2 applicants may partner with additional organizations as described in section III.C.3 to provide specific types of training services. All projects must lead to employment for program participants, and must incorporate education/training activities that:

• Address skills and competencies demanded by the industries targeted through this SGA and described in section I.B, Industry Focus;

• Provide education/training for jobs currently available or job openings that are anticipated during the life of the grant;

• Educate individuals about opportunities for career advancement and wage growth within the targeted industry and/or occupation, and provide comprehensive coaching to help individuals take advantage of those opportunities;

• Result in an employer- or industry-recognized credential during the period of performance. Credentials can include an educational certificate or degree, an occupational license, an industry-sponsored certificate or certification, as well as a Registered Apprenticeship certificate or degree (see definition of “credential” in section VI.B.2.ii), that indicates a level of mastery and competence in a given field or function. The credential awarded to participants should be based on the type of education/training provided through the grant and the requirements of the targeted occupation, and should be selected based on consultations with employer and labor partners, as appropriate;

• Take place at times and locations that are convenient and easily accessible for the targeted populations; and,

• Integrate occupational training with basic skills training, as appropriate, to ensure that participants have the foundational skills necessary to attain and retain employment.

Applicants may propose a wide range of activities in implementing projects that meet the requirements outlined above. When designing the proposed activities, applicants must propose projects that primarily focus on providing services to workers in one or more of the following three targeted categories: Unemployed workers, dislocated workers, and incumbent workers. Further, applicants may serve individuals at different education levels and stages within their career. ETA also encourages applicants to provide supportive services and to leverage WIA core and/or intensive services to help participants overcome barriers to employment, as appropriate. Examples of WIA core services may include but are not limited to job search assistance such as access to job banks, listing of available jobs, or referrals to employers with job openings; resume development; networking skills workshops; and interviewing techniques. Examples of WIA intensive services may include but are not limited to comprehensive assessments of skills and service needs; intensive career counseling; case management; and referring individuals who may be eligible for training services offered by the CBJT grant. Further, we encourage applicants to use program models with demonstrated success in serving the target populations, especially those with strong program evaluations showing positive impacts on participants. Promising models include the following:

• Strategies that integrate academic instruction with occupational skills training in a specific career field have shown promising employment and earnings outcomes. Applicants should consider program models that strongly link opportunities to improve basic literacy and mathematics skills with work-based learning in the targeted industries.

• Providing on-the-job training with a specific employer who agrees to hire individuals upon successful completion of the training has been an effective way for some programs to place disadvantaged individuals into employment. Registered Apprenticeship, with the combination of on-the-job training, related technical instruction, a mentoring component and incremental wage increases, has been highly successful in training a range of participants that may include but are not limited to veterans, older workers, and the unemployed.

II. Award Information

A. Award Amount

Under this SGA, ETA intends to award approximately $125 million in grant funds. In order to ensure that Federal funds reach areas and individuals that have not previously benefited from earlier CBJTG grant awards, ETA expects to allot up to $50 million of the total designated funds to organizations that have never received a grant through a CBJTG SGA (this refers to projects awarded through the following SGAs: SGA/DFA PY 04-10, SGA/DFA PY 05-11, SGA/DFA PY 07-01, and SGA/DFA PY 08-02). However, ETA reserves the right to change this amount depending on the quantity and quality of applications submitted under this SGA. Organizations that received a grant through previous CBJTG SGAs may submit proposals for funding through this SGA, but may only propose projects that focus on different industries and occupations than they targeted through their previous grants that were funded through a CBJTG SGA. ETA does not intend to award grants to sustain projects previously funded under CBJTG SGAs.

ETA intends to fund approximately 40 to 60 grants generally ranging from $1 million to $3 million. The exception to this range is that consortium applicants that include three or more community colleges, technical colleges, or Tribally controlled colleges or universities in their proposal may request an award ranging from $1 million to $5 million; the specific criteria that applicants must meet to be considered a consortium are defined in section III.B. ETA does not expect to fund any project for less than $1 million. However, this does not preclude funding grants at a lower amount based on the type and number of quality submissions. ETA will consider requests for greater than $3 mil lion non-responsive, and such applicants will not be considered for funding unless those requests meet the definition of consortium, as defined in section III.B. ETA will consider requests exceeding $5 million submitted on behalf of a consortium non-responsive, and such applicants will not be considered for funding. Within the funding ranges specified above, applicants are encouraged to submit proposals for quality projects at a funding level that is appropriate to the project.

B. Period of Performance

ETA expects to make awards by June 30, 2010. The period of grant performance for these awards will be up to 36 months from the date of execution of the grant documents. This performance period includes all necessary grant activities; the completion of education/training activities and the award of employer- or industry-recognized credentials; placement activities; and participant follow-up for performance outcomes. ETA also expects that the grant start date will be July 1, 2010, and start-up activities, such as hiring appropriate program staff, curriculum modification or development, and specialized equipment purchases, will begin immediately. The Department also expects that education and training activities will begin no later than January 15, 2011. We strongly encourage grantees to develop their project work plans and timelines accordingly. In addition, the Department intends that all grantees complete appropriate equipment purchases and curriculum development within the first year of the grant. Further, applicants should plan to fully expend grant funds during the period of performance, while ensuring full transparency and accountability for all expenditures. Therefore, applicants are encouraged to carefully consider their ability to spend the level of funding requested.

III. Eligibility Information

A. Eligible Applicants

In order to be eligible for consideration under this solicitation, the applicant must be either: (1) An individual Community or Technical College, including a Tribally Controlled College or University; (2) a Community College District; (3) a State Community College System; (4) a One-Stop Career Center in partnership with its Local Workforce Investment Board, that specifies one or more community or technical college(s) where all education/training activities will occur under the grant; or (5) an applicant proposing to serve an educationally underserved community without access to community or technical colleges that meet the requirements in section III.A.5. Requirements for each of these applicant types are provided below. Further, eligible applicants are encouraged to collaborate and submit an application together as a consortium. Organizations may not submit more than one application in response to this SGA, either as a single lead organization or as the lead among a consortium. However, organizations are not precluded from participating as a partner in a separate application submitted in response to this SGA.

1. Individual Community or Technical College, Including a Tribally Controlled College or University

Applicants under this criterion must demonstrate that they: (1) Admit as regular students only persons having a certificate of graduation from a school providing secondary education, or the recognized equivalent of such a certificate; (2) are legally authorized within the State to provide a program of education beyond secondary education; (3) provide an educational program for which the institution predominantly awards Associate's Degrees; (4) are a public or nonprofit institution; and (5) are accredited by a nationally recognized accrediting agency or association. ETA has determined that for the purposes of this SGA Tribally controlled colleges and universities are considered Individual Community or Technical Colleges, and do not have to demonstrate that they meet the five parameters listed above. For the purposes of this paragraph, an “Individual Community or Technical College” is defined as an entity that has its own Federal Tax Identification Number. Entities that do not meet the above criteria may be eligible to apply under the criterion in section III.A.5, if the conditions of that section are met. However, private for-profit institutions of higher education are not eligible to apply under this Solicitation.

2. Community College District

Applicants under this criterion must demonstrate that they are a community college education district created by the State for the purpose of carrying out a common objective on behalf of a group of community or technical colleges. The community college district must serve as the programmatic and fiscal agent for the grant, having ultimate responsibility for implementing the grant's statement of work, meeting all fiscal and administrative requirements as required by the grant, and ensuring the grant adheres to all other requirements of the grant agreement. The applicant must specify one or more community or technical colleges within the district where education/training activities will occur under the grant, and identify the specific role the college(s) will play in the project.

3. State Community College System

Applicants under this criterion must demonstrate that their office is the agency primarily responsible for the State supervision of a unified statewide system of community and technical colleges. The State community college system must serve as the programmatic and fiscal agent for the grant, having ultimate responsibility for implementing the grant's statement of work, meeting all fiscal and administrative requirements as required by the grant, and ensuring the grant adheres to all other requirements of the grant agreement. State system applications must specify one or more community college(s) within the State where education/training activities will occur under the grant.

For the purposes of this solicitation, a “State” is defined as the States of the United States, Commonwealth of Puerto Rico, District of Columbia, Guam, American Samoa, United States Virgin Islands, Commonwealth of the Northern Mariana Islands, Republic of the Marshall Islands, Federated States of Micronesia, and Republic of Palau.

4. One-Stop Career Centers

Under this criterion, the eligible applicant for One-Stop Career Centers must be the One-Stop Operator, as defined under Section 121 of the Workforce Investment Act of 1998 (29 U.S.C. 2841), on behalf of the One-Stop Career Center. One-Stop Career Center applications must specify one or more community or technical college(s) where all education/training activities will occur under the grant. The applicant must: (1) Demonstrate that the proposed activities are consistent with the State and local strategic WIA plan; (2) demonstrate that the Local Workforce Investment Board, or its designated fiscal agent, will serve as the fiscal agent for the grant by clearly providing the legal name and Federal Tax Identification Number of the fiscal agent; and (3) have a letter of concurrence from the Local Workforce Investment Board. The Local Workforce Investment Board's support and involvement in the project must be detailed in the letter of concurrence, and must also address the above requirements (1) and (2). Applications from One-Stop Career Centers without a letter of concurrence from their Local Workforce Investment Board will be considered non-responsive and will not be reviewed.

5. Educationally Underserved Communities

ETA recognizes that some communities, particularly those in rural areas, may lack access to community or technical college training because physical college facilities are not reasonably close and technology-based and distance learning options are limited or not available. Educationally underserved communities that lack this access may submit proposals under the parameters detailed in this criterion. In such cases, the applicant will be required to clearly state it is applying under this criterion and must fully demonstrate as part of its statement of need that community college training is not reasonably available within commuting distance of the community in which grant activities will take place and that there are no viable technology-based or distance learning options available. Applicants may use mileage, population, and access to classrooms, Internet and other technology, public transportation and other services, as factors to support their demonstration of the lack of access to and availability of community college training. Applications submitted under the criterion must still meet all other requirements set forth in this Solicitation. Applicants must clearly note in the abstract that they are applying under this criterion.

Under this criterion, the additional eligible applicants and requirements on education/training are listed below.

• Public, accredited Institutions of Higher Education that award certificates and both two-year and four-year degrees, and satellite campuses of such Institutions, are eligible to apply under this criterion. However, the emphasis for education/training activities under the grant must be at the level of a certificate, two-year Associate's Degree, or other credential as defined in section VI.B.2.ii. The public institution of higher education applicant is also required to be the education/training provider for applications submitted under this criterion.

• Alternate Educational Entities that are governmental or not-for-profit organizations that directly deliver, or broker for delivery, post-secondary education opportunities in educationally underserved communities that lack access to community colleges are eligible to apply under this criterion. Alternate Educational Entity applicants must demonstrate that: (1) The emphasis for education/training activities under the grant must be on training that leads to a certificate, two-year Associate's Degree, or other credential as defined in section VI.B.2.ii; and (2) the training is offered in partnership with a community college outside the underserved area and is acceptable for credit at or a credential from the partner community college. Additionally, applications must specify one or more community college(s) where education/training activities will occur under the grant.

B. Additional Eligibility Information

Any of the eligible applicant types noted in section III.A.1, III.A.2, III.A.3, and III.A.4 may submit a proposal on behalf of a consortium of community or technical colleges. Entities applying under section III.A.5 may not submit a proposal on behalf of a consortium of community or technical colleges. To be eligible as a consortium, applicants must:

• Identify at least three individual community colleges, technical colleges, or Tribally controlled colleges or universities within the region, State, or interstate area where education/training activities will occur through the consortium and specify the role that each will play in the project;

• Demonstrate that each of the participating community and technical colleges and Tribally controlled colleges and universities meets the definition of an “individual community and technical college” as stated in section III.A.1. Each community or technical college participating in the consortium must (1) admit as regular students only persons having a certificate of graduation from a school providing secondary education, or the recognized equivalent of such a certificate; (2) be legally authorized within the State to provide a program of education beyond secondary education; (3) provide an educational program for which the institution predominantly awards Associate's Degrees; (4) be a public or nonprofit institution; and (5) be accredited by a nationally recognized accrediting agency or association (as noted earlier, Tribally controlled colleges and universities do not have to demonstrate that they meet the five parameters listed above). For the purposes of this paragraph, an “individual community or technical college” is defined as an entity that has its own Federal Tax Identification Number;

• Clearly indicate in the required abstract if the application is a consortium proposal. A consortium application must also clearly designate that the lead applicant will serve as both the programmatic and fiscal agent for the grant; and

• Include a letter of commitment from each partner college within the consortium, indicating their support for the project and identifying the specific role they will play. The letters of commitment from each partner college within the consortium must include that institution's unique Federal Tax Identification Number. Applicants that fail to provide the unique Federal Tax Identification Number of each partner college within the consortium will be considered non-responsive and those applicants will not be considered for funding.

Examples of consortium applications include, but are not limited to, the following:

• A proposal submitted by an individual community or technical college that meets the definition of “individual community or technical colleges” as stated in section III.A.1 and includes at least two more individual community colleges, technical colleges, or Tribally controlled colleges that meet the definition of “individual community and technical colleges” in section III.A.1;

• A proposal submitted by an individual Community College District that includes three individual community or technical colleges that all meet the definition of “individual community and technical colleges” as defined in section III.A.1; and

• A proposal submitted by an individual State Community College System that includes three individual community or technical colleges that all meet the definition of “individual community and technical colleges” as defined in section III.A.1.

Organizations may not submit more than one application in response to this SGA. However, organizations are not precluded from participating as a partner in a separate application submitted in response to this SGA. Applicants that submit requests for more than $3 million that do not meet the requirements to be considered a consortium will be considered non-responsive. Applicants that meet the requirements to be considered a consortium noted above that request more than $5 million will be considered non-responsive.

C. Strategic Planning and Partnerships

1. Strategic Planning

Applicants are strongly encouraged to engage in a concise and thorough strategic planning process before submitting an application for this SGA. If the applicant already has completed a similar strategic planning process, that process should be reviewed and evaluated, as appropriate. DOL expects the public workforce system and other required and suggested partners listed in section III.C.2 and 3, to have a strong voice and integral role in the strategic planning process. In order to effectively engage in planning and fulfill the requirements of this SGA, applicants may incorporate the following as part of their planning efforts: review and analyze the local workforce investment system's workforce vision and goals; review and analyze other State and local planning documents, and applicable State and local policies, to align the technical proposal with overall workforce development, education, and economic development strategies; establish a collaborative strategic vision to prepare an educated and skilled workforce to meet the current and emerging needs of high growth and emerging industries in the local and/or regional area; analyze and determine the sectors where investments are or will be made and the occupations and skill needs within the high growth emerging industries that will be targeted; and analyze and determine the populations that will be targeted, and identify those population specific workforce challenges and the specific education/training activities that address the needs and demands of those targeted sectors and target populations.

The results of a strategic planning process will be valuable in informing the development of the technical proposal. Applicants should be aware they may not charge any strategic planning or other pre-award activities to the grant.

2. Required Partners and Their Roles

To be eligible for funding under this SGA, applicants must demonstrate that the proposed project will be implemented by a robust strategic partnership. By including the types of organizations referenced below in a comprehensive partnership, applicants can ensure they are maximizing available resources and organizational expertise for each project, and that individual participants within the project have all of the support they need to successfully complete education/training, overcome barriers to employment, and obtain jobs and advance in their careers. These partners can contribute a wide array of knowledge and activities to each project, and must work together to ensure that they leverage each other's expertise and resources.

The strategic partnership must include at least one entity from each of the following required organizational categories (a labor organization partner is only required for certain applicants, identified in section III.C.2.iii). Consortium applicants are encouraged to include more than one representative of the required and suggested partners, as needed, in order to ensure geographic representation.

i. Local Workforce Investment Boards and Their One Stop Systems

ETA requires that Local Workforce Investment Boards and their One Stop systems serve as partners in the proposed project. Further, either the Local Workforce Investment Board or their One Stop System must serve as a funded partner in the applicants' overall strategy and project work plan (applicants may also choose to fund both the Local Workforce Investment Board and the One Stop System). The role of the workforce system may include but is not limited to the following activities: (1) Understanding and analyzing the need for education/training and employment in the local area including identifying targeted industries, occupations, and hiring needs, as well as populations to be served, and connecting the applicant to relevant sources of data including the workforce investment board's strategic plan, Bureau of Labor Statistics (BLS) reports, and other relevant State tools or reports; (2) assessing potential participants for the CBJTG program; (3) identifying and referring candidates for education/training in the CBJTG program; (4) connecting and placing participants with employers that have job openings; (5) collecting, tracking, and reporting participant data to ETA; and (6) providing information on potential eligibility for Pell Grants. In addition, ETA strongly encourages the workforce system to leverage, where possible, WIA core and/or intensive services. This could involve making referrals for participants in the CBJT program, if eligible, who are in need of supportive services in order to overcome barriers to education/training and employment and ensure successful outcomes.

ii. Employers and/or Labor-Management Organizations

These organizations should be actively engaged in the project and may contribute to many aspects of grant activities, such as defining the program strategy and goals, identifying necessary skills and competencies, providing resources to support education/training (equipment, instructors, funding, internships, or other work-based learning activities or situations, etc.), and where appropriate, hiring qualified program participants. Applicants that include a labor-management organization will satisfy both this requirement and the requirement that they have a labor organization partner, noted below. A labor-management organization is a nonprofit entity, such as a training fund, training trust fund, or an education trust fund, with joint participation of one or more employers and one or more labor organizations on its executive board or comparable governing body. This entity must have a formalized agreement between the employer(s) and labor organization(s) to operate a joint labor-management training program(s) affiliated with the nonprofit entity.

iii. Labor Organizations (where applicable)

Labor organizations may contribute to many aspects of grant activities, including identifying skills and competencies; developing new or modifying existing curricula; conducting occupation and skills training; and issuing industry-recognized credentials. This requirement applies only to applicants that propose to partner with employers that have a formal collective bargaining/employment agreement with a labor union or labor related-organization. As not all employers have a formal collective bargaining/employment agreement with a labor union or labor related-organization, applicants that do not propose partnerships with such employers are not subject to this requirement.

3. Other Partners

In addition to the required partners listed in section III.C.2, we strongly encourage applicants to include other partners to further assist the project. Other partner organizations can offer additional resources and expertise such as on-the-job training activities that lead to permanent employment; development and implementation of Registered Apprenticeship and pre-apprenticeship programs; contextualized learning; internship programs; basic skills training, such as adult basic education, English as a Second Language (ESL), and job readiness training; initial assessment of skill levels, aptitudes, abilities, competencies, and supportive service needs; career counseling; case management services; and comprehensive retention strategies.

These organizations could include, but are not limited to:

i. The education and training community, including secondary schools, other community and technical colleges, four-year colleges and universities, apprenticeship programs, adult education providers, technical and vocational training institutions, and other education and training entities;

ii. Nonprofit organizations, such as community or faith-based organizations, or intermediaries, that have direct access to the target populations;

iii. State Apprenticeship Agencies (SAAs) or the Department of Labor's Office of Apprenticeship (OA), in those States where OA is the registration agency for registered apprenticeship programs. Applicants who may have included apprenticeship as a partner should note that the DOL Office of Apprenticeship is the registration agency for apprenticeship programs in 25 States and is available to partner in States with any grantee who requests to do so;

iv. Local veterans' agencies and local veterans service organizations;

v. Economic Development organizations;

vi. Industry employer associations that represent member companies within an industry or sector; and

vii. Labor organizations, such as unions, for applicants for whom these organizations are not required partners.

D. Cost Sharing

Cost sharing or matching funds are not required as a condition for application, but leveraged resources are strongly encouraged and may affect the applicant's score in section V.A.3 of the evaluation criteria.

E. Allowable Activities

The intent of this Solicitation is to fund projects that train and prepare workers for employment in high growth and other emerging industries. Allowable education/training costs include, but are not limited to the following types of costs: Faculty/instructors, including salaries and fringe benefits; in-house training staff; support staff such as lab or teaching assistants; classroom space; and books, materials, and supplies used in the training course, including specialized equipment.

Allowable activities under this SGA include:

• Classroom occupational training;

• On-the-job training activities that lead to permanent employment;

• Development and implementation of Registered Apprenticeship and pre-apprenticeship programs;

• Implementing and utilizing existing articulation agreements with universities and other educational partners;

• Training activities that help participants progress along career pathways;

• Contextualized learning;

• Distance learning;

• Internship programs;

• Customized training;

• Basic skills training, such as adult basic education, ESL, and job readiness training;

• Initial assessment of skill levels, aptitudes, abilities, competencies, and supportive service needs;

• Job search assistance, and career counseling;

• Job placement assistance;

• Case management services;

• Comprehensive retention strategies;

• Supportive services that will allow individuals to participate in grant activities; and

• Updating curriculum or replicating existing curriculum to support direct education/training provided through the grant. Grants funded under this SGA may produce tangible products and deliverables, such as updates to existing curriculum. Curriculum development is not encouraged and only appropriate if new curriculum is essential to support direct education/training activities provided through this grant and is necessary to achieve the training and employment outcomes proposed for the grant. As stated in section II.B Period of Performance, curriculum development should be completed within the first year of the grant, as it is the Department's intent that education and training activities begin no later than January 15, 2011.

Activities that are not directly related to education/training are not allowable activities under this grant. These types of unallowable activities could include, but are not limited to, developing and disseminating career awareness information, and developing adequate numbers of qualified instructors, such as through train-the-trainer and professional development activities, if they are not directly related to grant-funded training. As with all costs charged to the grant, the costs of equipment must meet the standards in the applicable Federal cost principles, including that the costs are reasonable and necessary to achieve grant outcomes. While grant funds may be used to purchase equipment that is used for training and education activities provided through the proposed project, applicants are strongly encouraged to use leveraged resources to support these costs to maximize the use of their grant funds. For additional information on costs related to equipment purchases and curriculum development, please see section II.B.

F. Other Grant Specifications

1. Participants Eligible To Receive Training

The intent of this SGA is to fund projects that provide education/training services to low and medium skill and/or low and medium income individuals to help them pursue or advance in full-time employment within the grant period of performance.

Applicants must propose projects that primarily focus on providing services to workers in one or more of the following three targeted categories: Unemployed workers, dislocated workers, and incumbent workers. Within these categories, grantees may serve a wide range of individuals, such as individuals receiving public assistance, high school dropouts, individuals with disabilities, veterans, Indian and Native Americans, and individuals with Limited English Proficiency. These three targeted categories of workers are defined as follows:

i. Unemployed workers: For the purposes of this SGA, ETA defines “unemployed worker” as an individual who is without a job and who wants and is available to work. This can include the long-term unemployed, such as individuals who have been unemployed for six months or more, and youth who have dropped out of school and are seeking their first full-time job.

ii. Dislocated workers: For the purposes of this SGA, this term refers to individuals who were terminated or laid-off or have received a notice of termination or lay-off from employment; or were self-employed but are now unemployed.

iii. Incumbent workers: For the purposes of this SGA, this term refers to individuals who are employed but need training to secure full-time employment, advance in their careers, or retain their current occupations. This includes low-wage and medium-wage workers who need to upgrade their skills to retain employment or advance in their careers, and workers who are currently working part-time.

Applicants may also propose projects that could include some services for individuals who do not fall into one of the three targeted categories listed above, as long as services for these individuals align with the primary intent and focus of the proposed project and support employment within the grant period of performance. While this is permissible, applicants should note that they may only provide services to a limited number of individuals who do not fall into one of the three targeted categories listed above, and that their project must still primarily focus on providing services to workers in one or more of those three targeted categories.

2. Veterans Priority

The Jobs for Veterans Act (Pub. L. 107-288) requires priority of service to veterans and spouses of certain veterans for the receipt of employment, training, and placement services in any job training program directly funded, in whole or in part, by DOL. The regulations implementing this priority of service can be found at 20 CFR part 1010. In circumstances where a grant recipient must choose between two qualified candidates for training, one of whom is a veteran or eligible spouse, the Veterans Priority of Service provisions require that the grant recipient give the veteran or eligible spouse priority of service by admitting him or her into the training program. To obtain priority of service a veteran or spouse must meet the program's eligibility requirements. Grantees must comply with DOL guidance on veterans' priority. Employment and Training Administration (“ETA”) Training and Employment Guidance Letter (TEGL) No. 10-09 (issued November 10, 2009) provides guidance on implementing priority of service for veterans and eligible spouses in all qualified job training programs funded in whole or in part by DOL. TEGL No. 10-09 is available at http://wdr.doleta.gov/directives/corr_doc.cfm?DOCN=2816.

3. Grantee Training

Grantees are required to participate in all ETA training activities related to orientation, financial management and reporting, performance reporting, product dissemination, and other technical assistance training as appropriate during the life of the grant. These trainings may occur via conference calls, through virtual events such as webinars, and in-person meetings.

4. CBJTGs Evaluation

ETA is interested in determining if training provided through the CBJTGs impacts students' future labor force outcomes. To that end, ETA expects to select grantees awarded funds through this SGA to participate in an evaluation. Applicants must be prepared to share with the evaluation contractor individual information on demographics, participant characteristics, services received, and outcomes and must be prepared to provide access to program operating personnel and participants, including after the expiration date of the grant.

IV. Application and Submission Information

A. How To Obtain an Application Package

This SGA contains all of the information and links to forms needed to apply for grant funding.

B. Content and Form of Application Submission

The proposal will consist of three separate and distinct parts: (I) A cost proposal; (II) a technical proposal; and (III) attachments to the technical proposal. Applications must include the following or will be considered non-responsive and will not be considered: (1) The Standard Form (SF) 424, “Application for Federal Assistance;” (2) The SF 424A Budget Information Form; (3) Data Universal Numbering System (D-U-N-S®) Number; (4) Budget Narrative; (5) Requests grant funds within the appropriate funding range noted in section II.A; and (6) Abstract. In addition, consortium applicants must include letters of commitment from each partner college within the consortium, identifying each institution's unique Federal Tax Identification Number. Applications that fail to adhere to the instructions in this section will be considered non-responsive and will not be considered. The applicant must ensure that the funding amount requested is consistent across all parts and sub-parts of the application. If inconsistencies are found, the funding amount included on the SF 424 “Application for Federal Assistance” will be considered the official funding amount requested.

Part I. The Cost Proposal. The Cost Proposal must include the following items:

• SF 424, “Application for Federal Assistance” (available at http://www07.grants.gov/agencies/forms_repository_information.jsp and http://www.doleta.gov/grants/find_grants.cfm). The SF 424 must clearly identify the applicant and must be signed by an individual with authority to enter into a grant agreement. Upon confirmation of an award, the individual signing the SF 424 on behalf of the applicant shall be considered the authorized representative of the applicant. Applicants must supply their D-U-N-S® Number on the SF 424. If submitting a hard copy application, the SF 424 must be signed by the authorized representative. All applicants for Federal grant and funding opportunities are required to have a D-U-N-S® Number. See Office of Management and Budget (OMB) Notice of Final Policy Issuance, 68 FR 38402, Jun. 27, 2003. The D-U-N-S® Number is a non-indicative, nine-digit number assigned to each business location in the Dun & Bradstreet (D&B) database having a unique, separate, and distinct operation, and is maintained solely by D&B. The D&B D-U-N-S® Number is used by industries and organizations around the world as a global standard for business identification and tracking. If you do not have a D-U-N-S® Number, you can get one for free through the D&B site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the budget request, explained in detail below.

• Budget Narrative: The budget narrative must provide a description of costs associated with each line item on the SF-424A. It should also include a description of leveraged resources provided to support grant activities. In addition, the applicant should address precisely how the administrative costs support the project goals. The entire Federal grant amount requested (not just one year) should be included on both the SF 424 and SF 424A. No leveraged resources should be shown on the SF 424 and SF 424A.

Applications that fail to provide an SF 424, SF 424A, a D-U-N-S® Number, and a budget narrative will be considered non-responsive and not reviewed.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The Technical Proposal demonstrates the applicant's capability to implement the grant project in accordance with the provisions of this solicitation. The guidelines for the content of the Technical Proposal are provided in section V.A of this SGA. The Technical Proposal is limited to 20 double-spaced single-sided 8.5 x 11 inch pages with 12 point text font and 1 inch margins. Any materials beyond the 20-page limit will not be read. Further, any tables or charts contained in the Technical Proposal are included in the 20 page limit and should be single-spaced single-sided 8.5 x 11 inch pages with 12 point text font and 1 inch margins. Applicants should number the Technical Proposal beginning with page number 1. Applications that do not include Part II, the Technical Proposal, will be considered non-responsive.

Part III. Attachments to the Technical Proposal. In addition to the 20-page Technical Proposal, the applicant must submit one letter of commitment that is co-signed by all required partners and other partners, as appropriate, that describes the roles and responsibilities of each partner. Electronic signatures are permissible in the letter of commitment. The exception to this is that in addition to the single letter of commitment from partners, consortium applicants are also required to include a letter of commitment from each partner college within the consortium partnership, indicating their support for the project, identifying the specific role they will play, and providing each institution's unique Federal Tax Identification Number.

Applicants who may have included an apprenticeship program or State apprenticeship agency as a partner should note that the DOL Office of Apprenticeship is the registration agency for apprenticeship programs in 25 States. In the other 25 States, the District of Columbia, and U.S. Territories, the registration agency is a recognized State Apprenticeship Agency that has responsibility for registering apprenticeship programs and providing technical assistance for registered apprenticeship programs. In the 25 States where DOL's Office of Apprenticeship is the registration agency, a signature is not required in the letter of commitment from the DOL Office of Apprenticeship. A signature is required in the letter of commitment where the registration agency is a recognized State Apprenticeship Agency. Applicants should visit the DOL Office of Apprenticeship's Web site (http://www.doleta.gov/oa/stateoffices.cfm and http://www.doleta.gov/oa/stateagencies.cfm) to identify the appropriate State apprenticeship director representative.

Applicants should not send letters of commitment separately to ETA, because letters received separately will be tracked through a different system and will not be attached to the application for review. ETA does not permit general letters of support submitted by organizations or individuals that are not partners in the proposed project and that do not directly identify the specific commitment or roles of the project partners. Support letters of this nature will not be included in the evaluation review process.

Applicants that identify a project manager for their proposed project in the Technical Proposal should include a resume for that individual as an attachment.

The applicant also must provide an Abstract, not to exceed two pages and must include the following sections: (1) Summary of the proposed project, including applicant name; (2) applicant type as referenced in section III.A, and identifying if the lead applicant has previously been funded through a CBJT SGA or has never received a grant funded through a CBJT SGA (if applying as a consortium, clearly designate that the lead applicant will serve as both the programmatic and fiscal agent for the grant in this section); (3) targeted industry and/or occupations; (4) project title; (5) key partners; (6) identification of the community or communities to be served, including whether the community(ies) are located in urban, suburban, or rural areas; (7) target populations to be served; (8) projected training and placement outcomes; and (9) funding level requested. Failure to provide this information in the Abstract may have an impact on selection as a grantee. These additional materials (commitment letter, resume for the project manager if applicable, and two-page abstract) do not count against the 20-page limit for the Technical Proposal, but may not exceed 12 pages. Any additional materials beyond the 12-page limit will not be read. Applications that do not include the abstract will be considered non-responsive and will not be considered.

Applications may be submitted electronically on Grants.gov or in hard copy by mail or hand delivery. These processes are described in further detail in section IV.C. Applicants submitting proposals in hard copy must submit an original signed application (including the SF 424) and one (1) “copy-ready” version free of bindings, staples or protruding tabs to ease in the reproduction of the proposal by DOL. Applicants submitting proposals in hard copy are also required to provide an identical electronic copy of the proposal on compact disc (CD). If discrepancies between the hard copy submission and CD copy are identified, the application on the CD will be considered the official applicant submission for evaluation purposes. Failure to provide identical applications in hardcopy and CD format may have an impact on the overall evaluation.

C. Submission Process, Date, Times, and Addresses

The closing date for receipt of applications under this announcement is April 29, 2010. Applications must be received at the address below no later than 4 p.m. Eastern Time. Applications sent by e-mail, telegram, or facsimile (FAX) will not be accepted. If an application is submitted by both hard-copy and through http://www.grants.gov a letter must accompany the hard-copy application stating why two applications were submitted and the differences between the two submissions. If no letter accompanies the hard-copy, we will review the copy submitted through http://www.grants.gov. For multiple applications submitted through http://www.grants.gov, we will review the latest submittal. Applications that do not meet the conditions set forth in this notice will be considered non-responsive. No exceptions to the mailing and delivery requirements set forth in this notice will be granted. Further, documents submitted separately from the application, before or after the deadline, will not be accepted.

Mailed applications must be addressed to the U.S. Department of Labor, Employment and Training Administration, Division of Federal Assistance, Attention: Donna Kelly, Grant Officer, Reference SGA/DFA, PY 09-07, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applications that are submitted through Grants.gov must be successfully submitted at http://www.grants.gov no later than 4 p.m. Eastern Time on the closing date, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. Applicants should read through the registration process carefully before registering. These steps may take as much as four weeks to complete, and this time should be factored into plans for electronic submission in order to avoid unexpected delays that could result in the rejection of an application. The site also contains registration checklists to help you walk through the process. The Department strongly recommends that applicants download the “Organization Registration Checklist” at http://www.grants.gov/assets/Organization_Steps_Complete_Registration.pdf and prepare the information requested before beginning the registration process. Reviewing and assembling required information before beginning the registration process will alleviate last minute searches for required information and save time.

In addition to having a D-U-N-S® Number, applicants applying electronically through Grants.gov must register with the Federal Central Contractor Registry (CCR). Step-by-step instructions for registering with CCR can be found at http://www.grants.gov/applicants/org_step2.jsp. All applicants must register with CCR in order to apply online. Failure to register with the CCR will result in your application being rejected by Grants.gov during the submission process.

The next step in the registration process is creating a username and password with Grants.gov to become an Authorized Organizational Representative (AOR). AORs will need to know the D-U-N-S® Number of the organization for which they will be submitting applications to complete this process. To read more detailed instructions for creating a profile on Grants.gov visit: http://www.grants.gov/applicants/org_step3.jsp.

After creating a profile on Grants.gov, the E-Biz Point of Contact (E-Biz POC)—a representative from your organization who is the contact listed for CCR—will receive an e-mail to grant the AOR permission to submit applications on behalf of their organization. The E-Biz POC will then log in to Grants.gov and approve an applicant as the AOR, thereby giving him or her permission to submit applications. To learn more about AOR Authorization visit: http://www.grants.gov/applicants/org_step5.jsp, or to track AOR status visit: http://www.grants.gov/applicants/org_step6.jsp.

An application submitted through Grants.gov constitutes a submission as an electronically signed application. The registration and account creation with Grants.gov, with E-Biz POC approval, establishes an AOR. When you submit the application through Grants.gov, the name of your AOR on file will be inserted into the signature line of the application. Applicants must register the individual who is able to make legally binding commitments for the applicant organization as the AOR; this step is often missed and it is crucial for valid submissions.

An electronic time stamp is generated within the system when the application is successfully received by Grants.gov. The applicant will receive acknowledgement of receipt and a tracking number from Grants.gov with the successful transmission of the application. Only applications that are successfully submitted no later than 4 p.m. Eastern Time on the closing date and subsequently successfully validated will be considered. While it is not required that an application be successfully validated before the deadline for submission, it is prudent to reserve time before the deadline in case it is necessary to resubmit an application that has not been successfully validated. It is important to note that if sufficient time is not allotted and a rejection notice is received after the due date and time, the application will not be considered. Applications received by Grants.gov after the established due date and time will be considered late and will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

We strongly advise applicants to use the plethora of tools and documents, including FAQs, that are available on the “Applicant Resources” page at http://www.grants.gov/applicants/resources.jsp. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov. The Contact Center is open 24 hours a day, seven days a week. They are closed on Federal holidays.

Late Applications: For applications submitted on Grants.gov, only applications that have been successfully submitted no later than 4 p.m. Eastern Time on the closing date and subsequently successfully validated will be considered. Applicants take a significant risk by waiting to the last day to submit by Grants.gov.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day before the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to these instructions will be a basis for a determination that the application was not filed timely and will not be considered. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant.

Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its cognizant Federal agency either before or shortly after grant award.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. However, they must be discussed in the budget narrative and tracked through the grantee's accounting system. To claim any administrative costs that are also indirect costs, the applicant must obtain an Indirect Cost Rate Agreement from its cognizant Federal agency.

3. Salary and Bonus Limitations

Under Public Law 109-234, none of the funds appropriated in Public Law 109-149 or prior Acts under the heading “Employment and Training Administration” that are available for expenditure on or after June 15, 2006, shall be used by a recipient or sub-recipient of such funds to pay the salary and bonuses of an individual, either as direct costs or indirect costs, at a rate in excess of Executive Level II. Public Laws 111-8 and 111-117 contain the same limitations with respect to funds appropriated under each of these Laws. These limitations also apply to grants funded under this SGA. The salary and bonus limitation does not apply to vendors providing goods and services as defined in OMB Circular A-133 (codified with 29 CFR Parts 96 and 99). See Training and Employment Guidance Letter number 5-06 for further clarification: http://wdr.doleta.gov/directives/corr_doc.cfm?DOCN=2262.

4. Use of Grant Funds for Wages

Organizations that receive grants through this SGA may not use grant funds to pay for the wages of participants. Further, the provision of stipends to training enrollees for the purposes of wage replacement is not an allowable cost under this SGA.

However, while grant funds may not be used to pay for wages, grant funds may be used to support the costs associated with providing on-the-job training to participants, which can include the extraordinary costs of providing on-the-job training and additional supervision. Please refer to section VI.B for more information.

5. Tuition and Other Costs of Training

Organizations that receive grants through this SGA may use grant funds to pay for the costs of tuition, as well as other training related expenses, associated with the specific education and training activities provided through these grants. Organizations may pay for these tuition and other training-related expenses directly, or may provide participants with scholarships to pay for these costs. Grantees should ensure that their use of grant funds to pay for the costs of tuition and other training related expenses are in accordance with applicable Federal cost principles.

6. Intellectual Property Rights

The Federal Government reserves a paid-up, nonexclusive and irrevocable license to reproduce, publish or otherwise use, and to authorize others to use for Federal purposes: (1) The copyright in all products developed under the grant, including a subgrant or contract under the grant or subgrant; and (2) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, grantees must include the following language on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of Funds for Supportive Services

Supportive services for adults and dislocated workers are defined at WIA Sections 101(46) and 134(e)(2). They include services such as transportation, child care, dependent care, and housing that are necessary to enable an individual to participate in activities funded through this grant. Further, under WIA Section 134(e)(3), supportive services can include needs-related payments (NRPs) that are necessary to enable individuals to participate in training activities funded through this grant. For the purposes of this SGA, grantees may use grant funds to provide supportive services only to individuals who are participating in activities provided through the grant (or in the case of NRPs, participating in training), who are unable to obtain such services through other programs, and when such services are necessary to enable individuals to participate in activities. Grantees should ensure that their use of grant funds on supportive services is consistent with their established written policy regarding the provision of supportive services. Grantees may use no more than 10 percent of their grant funds on these services. However, to support the employment and training needs of the targeted populations, ETA encourages grantees to leverage other sources of funding for supportive services, including WIA Adult formula funds.

G. Other Submission Requirements

Withdrawal of Applications: Applications may be withdrawn by written notice to the Grant Officer at any time before an award is made.

V. Application Review Information

A. Evaluation Criteria

This section identifies and describes the criteria that will be used to evaluate the grant proposals. These criteria and point values are:

Criterion | Points
1. Statement of Need | 20
2. Project Management and Organizational Capacity | 20
3. Strategy and Project Work Plan | 40
4. Outcomes and Deliverables | 20
Total | 100

1. Statement of Need (20 Points)

Applicants must fully demonstrate a clear and specific need for the Federal investment in the proposed activities. It is critical throughout this section that applicants are explicit and specific as possible in citing the most up-to-date, accurate sources of data and analysis. Applicants should use all relevant data from a wide variety of traditional resources (e.g., BLS reports, and State surveys) and non-traditional information sources including consultation with industry associations, or tracking private sector and government infrastructure investments, building permits, job postings, and business hiring trends. Points for this section will be based on the relevance, completeness, and quality of data and analysis which should serve as the foundation for the Strategy and Project Work Plan as follows:

i. (10 points) Data and analysis of the local or regional workforce including the unemployment rate; demonstration that the local or regional workforce has a high number of long-term unemployed individuals, such as individuals that have been unemployed for six months or more; discussion of any potential or actual layoffs; information on demographics, education, skill levels, and potential barriers to employment for the specific populations that will be targeted through the proposed project (unemployed workers, dislocated workers, and/or incumbent workers); and the skill gaps currently existing and those projected for the pipeline of future workers in the local and regional area.

ii. (5 points) Data and analysis of the current and projected employment opportunities by industry and occupation and identification of the job skills necessary to obtain those employment opportunities. Specific employers that need or will need skilled workers should be identified if they are employers likely to be hiring within the grant period of performance.

iii. (5 points) A brief inventory of training for the industries and occupations being targeted that is available in the community, and why current education and training offerings are not sufficient to address job seeker and employer needs. Provide a full description of the specific types of education and training available for targeted industries and occupations, including specific providers and their current capacity (e.g., number of slots per year), and why that capacity is not sufficient to address the needs of job seekers and employers.

2. Project Management and Organizational Capacity (20 Points)

The applicant must fully describe its capacity and its partners' capacity to effectively staff the proposed initiative. The application must also fully demonstrate the applicant's fiscal, administrative, and performance management capacity to implement the key components of this project, and the track record of the applicant and its partners in implementing projects of similar focus, size, and scope.

Scoring under this criterion will be based on the extent to which applicants provide evidence of the following:

i. Staff, Fiscal, Administrative, and Performance Management Capacity (15 points)

Strong evidence that the applicant and its partners have the staff capacity to implement the proposed initiative and have the fiscal, administrative, and performance management capacity to effectively administer this grant. Discussion should include:

• The proposed staffing pattern for the project, including program management and administrative staff and program staff, which demonstrates that the role(s) and time commitment of the proposed staff are sufficient to ensure proper direction, management, implementation, and timely completion of each project.

• Where a project manager is identified, the applicant must demonstrate that the qualifications and level of experience of the proposed project manager are sufficient to ensure proper management of the project, and should include the resume of this individual as an attachment. Where no project manager is identified, the applicant should discuss the minimum qualifications and level of experience that will be required for the position.

• A full description of the applicant's capacity, including its systems, processes, and administrative controls that will enable it to comply with Federal rules and regulations related to the grant's fiscal and administrative requirements.

• A full description of the applicant's capacity, including its systems and processes, that will support the grant's performance management requirements through effective tracking of participant status and performance outcomes including both participant-level data and aggregate outcomes. The applicant must include an explanation of the applicant's processes and systems for tracking participants while protecting individual privacy, as well as collecting and managing data in a way that allows for accurate and timely reporting of performance outcomes. The applicant may cite relationships with the public workforce system, as appropriate, to assist with client tracking and performance reporting, and should describe access to specific data management software for client tracking and performance reporting. The applicant should be aware that ETA will provide grantees with an existing software system to help them collect and report the performance data that is required by this grant, and will make this system available to grantees at no cost. This ETA-provided software system is an Access-based management information system than can support grantees in the tracking of participant information for required performance reporting elements. However, grantees should note that this system is not a case management system. The applicant's response to this section of the evaluation criteria could reference the use of this software system.

ii. Applicant's Experience (5 points)

The applicant must demonstrate its experience leading or participating significantly in a comprehensive partnership, and the experience of the applicant and its partners in effectively implementing and operating training, education, and job placement initiatives of similar focus, size and scope. The discussion must include:

• Specific examples of the applicant's experience in leading or participating significantly in a partnership that focused on education and training and included a wide range of stakeholders, including a description of the programmatic goals of the project, and a demonstration of the results achieved by that project.

• Specific examples of the applicant's track record administering Federal, State, or local grants. Applicants that have not received grants before should provide specific examples of their program management experiences, or other relevant experiences administering Federal, State, or local funds. Examples should include the programmatic goals and programmatic, fiscal, and administrative results from these projects.

• A description of the applicant's and its partners' experience in projects providing education, training, and placement services to the specific populations noted in section III.F.1 including the programmatic goals and results of the projects.

3. Strategy and Project Work Plan (40 Points)

The applicant must provide a complete and very clear explanation of its proposed strategy and its implementation plans. The applicant must describe the proposed workforce development strategy in full; explain how the proposed education/training addresses the applicant's statement of need; and, demonstrate how the proposed project will effectively deliver education/training. ETA is interested in applicants describing any evidence-based research that they considered in designing the strategy. The applicant must present a comprehensive work plan for the project, following the format provided later in this section. Points for this criterion will be awarded for the following factors:

i. Roles and Commitment of Project Partners (5 points)

Scoring on this section will be based on the extent to which the applicant fully demonstrates the breadth and depth of their partners' commitment to the proposed project, by addressing the following factors:

• Applicants must fully demonstrate they have assembled a comprehensive and representative partnership of both the target industries and of the organizations that can address gaps in education and training offerings identified in the statement of need in their local or regional area. If appropriate, applicants should include a clear description of partner involvement in the suggested strategic planning process outlined in section III.C.1 to support the development of the technical proposal. The applicant should fully describe the specific roles and level of participation of each of the project partners, including education/training, supportive services, expertise, and/or other activities that partners will contribute to the project.

• The applicant must also demonstrate a strong commitment from its partners by providing a letter of commitment signed by all partners, as well as letters of commitment from partner colleges if the applicant is applying on behalf of a consortium of community or technical colleges. (See section IV.B for instructions on submitting a required letter of commitment). ii. Proposed Recruitment and Pre-Training Activities, Education/Training, Placement, and Retention Strategies (15 points)

• Recruitment and Pre-Training Activities: The applicant must provide a comprehensive outreach and recruitment strategy that is inclusive of diverse populations as defined in the statement of need, that defines a clear process for finding and referring workers to the education/training programs, and describes pre-training activities such as case management services and assessment services, if applicable. The applicant must clearly identify how the proposed strategy will enable the project to effectively recruit those populations and identify any potential barriers to employment.

• Training: DOL encourages applicants to base their education/training strategies on program models that have shown promising outcomes for serving the populations targeted through this SGA. The applicant must provide a detailed explanation of the proposed education/training activities that describes how the project will comprehensively address the education/training needs of the targeted populations (unemployed workers, dislocated workers, and/or incumbent workers), and other populations to be served (if applicable), including a discussion of how the design of the education/training activities will accommodate the current skill and education level, age, language barriers, and level of work experience of the targeted populations. The applicant must also describe how the project will address barriers to employment by combining education/training services with supportive services, such as child care or transportation, as appropriate for each targeted population. The applicant must demonstrate that education/training will focus on the specific industries and occupations it has proposed to target and focuses on skills and competencies demanded by the selected industries and occupations; that the project will integrate basic skills training where appropriate; and that the education/training will lead to an appropriate employer- or industry-recognized credential (which can include an educational certificate or degree, an occupational license, an industry-sponsored certificate or certification, as well as a Registered Apprenticeship certificate or degree) and to employment; take place at times and locations that are convenient and easily accessible for the target populations; provide education/training for jobs currently available or job openings that are anticipated during the life of the grant; educate individuals about opportunities for career advancement and wage growth within the targeted industry and/or occupation; provide comprehensive coaching to help individuals take advantage of those opportunities; and describe how participant education/training costs will be paid, such as directly through the grant or through other resources.

• Placement: The applicant must provide a clear strategy for placing individuals into employment. The applicant must describe the specific employers and methods for engaging employers, identifying specific job needs, and referring participants to employers. Wherever possible, the applicant should identify specific employers that indicate plans to hire project participants that complete education/training. Applicants serving incumbent workers should include a clear strategy for working with employers to support incumbent worker career advancement, if applicable.

• Retention: The applicant must provide a clear strategy for job retention, identifying specific activities and partners that are important to help participants retain employment. This should include strategies for engaging employers, as well as for identifying the barriers to retention that participants face after placement and for providing them with supportive services to address these barriers.

iii. Leveraged Resources (5 points)

The applicant clearly and fully describes any funds and other resources that will be leveraged to support grant activities and how these funds and other resources will be used to contribute to the proposed outcomes for the project, including any leveraged resources related to the provision of supportive services for program participants. This includes funds and other resources leveraged from businesses, labor organizations, education and training providers, WIA core and/or intensive services, and/or Federal, State, and local government programs. Examples of leveraged resources include the costs of personnel, supplies, and equipment provided by the applicant and/or its partners that will support grant activities. Applicants will be scored based on the extent to which they fully demonstrate the resources provided, including the source(s) and type(s) of leveraged resources provided, the strength of commitment to provide these resources (such as in a commitment letter), the breadth and depth of the resources provided, and how well these resources support the proposed grant activities.

iv. Project Work Plan (15 points)

The applicant must provide a comprehensive project work plan. Factors considered in evaluating the project work plan will include: (1) The presentation of a coherent plan that demonstrates the applicant's complete understanding of all the activities, responsibilities, and costs required to implement each phase of the project and achieve projected outcomes within the timeframe of the grant; (2) the demonstrated feasibility and reasonableness of the timeline for accomplishing all necessary start-up and education/training activities, including the ability to begin start-up activities immediate following the grant start date of no later than July 1, 2010, and to begin education and training activities no later than January 15, 2011; and, (3) the extent to which the budget aligns with the proposed work plan and is justified with respect to the adequacy and reasonableness of resources requested. Applicants must present this work plan in a table that includes the following categories:

• Project Phase: Lay out the timeline in six phases—Startup, Recruitment and Pre-Training Activities, Training, Placement, Retention, and Deliverables.

• Activities: Identify the major activities required to implement each phase of the project. For each activity, include the following information: (a) Start Date; (b) End Date; (c) Project partner(s) that will be primarily responsible for performing each activity; (d) Key tasks associated with each activity; (e) Key project milestones, with a list of the target dates and associated outcomes projected for recruitment, education/training, placement, and retention activities; and (f) As accurately as possible, list the sub-total budget dollar amount associated with each activity.

The Project Work Plan must also include a plan for developing a sustainability strategy and any other specific deliverables which applicants propose to develop, such as curriculum. It must include adequate time throughout the life of the grant to conduct sustainability planning that involves the public workforce system, employers, and other key partners, where appropriate, to help ensure that strategic partnerships and core education/training, placement, and retention activities are sustained after the grant ends. Applicants must build in specific meetings or activities and deliverables in the Project Work Plan that will focus on sustainability planning and the development of a written sustainability plan, which will be a required document submitted to ETA at the end of the grant. It is ETA's expectation that grantees will develop a robust plan for sustainability that leverages a variety of partnerships and funding streams to sustain all or a portion of their project.

4. Outcomes and Deliverables (20 Points)

The applicant must demonstrate a results-oriented approach to managing and operating its project by providing projections for all outcome categories relevant to measuring the success or impact of the project, providing an estimated cost per participant, describing the products and deliverables that will be produced as a result of the grant activities, and fully demonstrating the appropriateness and feasibility of achieving these results within the grant period of performance. The applicant must include projected outcomes, which will be used as goals for the grant. The applicant must comprehensively address each of the areas outlined below.

i. Projected Performance Outcomes (10 points)

The applicant must provide projections and track outcomes for each of the following outcome categories for all participants served with grant funds:

• Total participants served;

• Total number of participants beginning education/training activities;

• Total number of participants completing education/training activities;

• Total number of participants who complete education/training activities that receive a degree, certificate, or other type of credential;

• For participants who complete education/training activities that receive a degree, certificate, or other type of credential, identify the type(s) of credentials to be received and the total number of credentials to be received for each type identified;

• Total number of participants who complete education/training activities who enter employment. This outcome refers to placement into unsubsidized employment and includes individuals who are employed when they begin education/training and enter a new position of employment after completion of education/training activities, even if the new position is with the same employer, as long as the individuals use the competency or competencies they acquired through education/training in their new position;

• Total number of participants who complete education/training activities who are placed into unsubsidized employment, as noted in the bullet above, who retain an employed status in the first and second quarters following initial placement; and

• Total number of participants who complete education/training activities who enter training-related unsubsidized employment. This outcome refers to placement into unsubsidized employment and includes individuals who are employed when they begin education/training and enter a new position of employment after completion of education/training activities, even if the new position is with the same employer, as long as the individuals use the competency or competencies they acquired through education/training in their new position and their new position is in the industry or occupation on which the grant-funded education/training focused.

The applicant must collect participant-level data on individuals who receive education/training and other services provided through the grant. These data should be the basis for reporting against the outcomes listed above, and may be required for reporting on other employment-related outcomes in the future.

An applicant must collect and report participant-level data from the following categories:

• Demographic and socioeconomic characteristics;

• Services provided; and

• Outcomes achieved.

ii. Appropriateness and Feasibility, Degrees, Certificates, or Other Credentials Resulting From Training, and Deliverables (10 points)

• The applicant must fully demonstrate the appropriateness and feasibility of its projections of the project outcomes by addressing four factors: (1) The extent to which the expected project outcomes are realistic and consistent with the objectives of the project and the needs of the community; (2) the ability of the applicant to achieve the stated outcomes and report results within the timeframe of the grant; (3) the appropriateness of the outcomes with respect to the requested level of funding; and (4) the cost per participant and the appropriateness of these costs in relation to the nature of the education/training, the targeted populations served, and similar education/training in the community(ies).

• Project activities must lead to an employer- or industry-recognized credential (which can include an educational certificate or degree, an occupational license, an industry-sponsored certificate or certification, as well as a Registered Apprenticeship certificate or degree), and the applicant must identify the credential that participants will earn as a result of the proposed education/training, and the employer-, industry-, or State-defined standards associated with the credential. If the credential targeted by the education/training project is performance-based, applicants should either: (a) Demonstrate employer engagement in the curriculum development process; or (b) demonstrate that the credential will translate into concrete job opportunities with an employer.

• If applicable, the applicant must provide a comprehensive list of expected deliverables consistent with the project work plan and timeline (required in section V.A.3.iv) that includes a brief description of the deliverable (such as updated curriculum), the anticipated completion date, and an estimated timeframe and method for electronic delivery to ETA. Electronic delivery may include e-mail for smaller documents, DVDs or other electronic media for transmission of larger files.

• Applicants must describe their process for identifying subject matter experts and conducting reviews of the deliverables produced through the grant activity. Applicants should allot funds in their budget for the independent review of their deliverables by subject matter experts. Subject matter experts are individuals with demonstrated experience in developing and/or implementing similar deliverables. These experts could include applicants' peers, such as representatives from neighboring education and training providers. The applicant must provide ETA with the results of the review and the qualifications of the reviewer(s) at the time the deliverable is provided to ETA.

B. Review and Selection Process

Applications for grants under this solicitation will be accepted after the publication of this announcement and until the closing date. A technical review panel will carefully evaluate applications against the selection criteria. These criteria are based on the policy goals, priorities, and emphases set forth in this SGA. Up to 100 points may be awarded to an application, depending on the quality of the responses to the required information described in section V.A. The ranked scores will serve as the primary basis for selection of applications for funding, in conjunction with other factors such as urban, rural, and geographic balance; representation among eligible organizations that have never received a CBJT grant; representation among the high growth and emerging industries targeted through this SGA; the availability of funds; and which proposals are most advantageous to the government. The panel results are advisory in nature and not binding on the Grant Officer. The Grant Officer may consider any information that comes to his/her attention. The government may elect to award the grant(s) with or without discussions with the applicant. Should a grant be awarded without discussions, the award will be based on the applicant's signature on the SF 424, including electronic signature via E-Authentication on http://www.grants.gov, which constitutes a binding offer by the applicant.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 (New Restrictions on Lobbying) and 98 (Governmentwide Debarment and Suspension), and, where applicable, 29 CFR parts 96 and 99 (Audit Requirements).

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The Workforce Investment Act of 1998, Public Law 105-220, 112 Stat. 936 (codified as amended at 29 U.S.C. 2801 et seq.) and 20 CFR part 667 (General Fiscal and Administrative Rules).

ii. 29 CFR part 29 and 30—Apprenticeship and Equal Employment Opportunity in Apprenticeship and Training; and

iii. 29 CFR part 37—Implementation of the Nondiscrimination and Equal Opportunity Provisions of the Workforce Investment Act of 1998. The Department notes that the Religious Freedom Restoration Act (RFRA), 42 U.S.C. section 2000bb, applies to all Federal law and its implementation. If your organization is a faith-based organization that makes hiring decisions on the basis of religious belief, it may be entitled to receive Federal financial assistance under Title I of WIA and maintain that hiring practice even though Section 188 of WIA contains a general ban on religious discrimination in employment. If you are awarded a grant, you will be provided with information on how to request such an exemption.

iv. Under WIA section 181(b)(4), health and safety standards established under Federal and State law otherwise applicable to working conditions of employees are equally applicable to working conditions of participants engaged in training and other activities. Applicants that are awarded grants through this SGA are reminded that these health and safety standards apply to participants in these grants.

In accordance with section 18 of the Lobbying Disclosure Act of 1995 (Pub. L. 104-65) (2 U.S.C. 1611), non-profit entities incorporated under Internal Revenue Service Code Section 501(c)(4) that engage in lobbying activities are not eligible to receive Federal funds and grants.

Except as specifically provided in this SGA, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL's award does not provide the justification or basis to sole source the procurement, i.e., avoid competition, unless the activity is regarded as the primary work of an official partner to the application.

2. Special Program Requirements

i. Evaluation

DOL may require that the program or project participate in an evaluation of overall performance of CBJTGs, as described in section III.F.4.

ii. Definition of Credential

A credential is awarded in recognition of an individual's attainment of measurable technical or occupational skills necessary to gain employment or advance within an occupation. These technical or occupational skills are based on standards developed or endorsed by employers. Certificates awarded by workforce investment boards are not included in this definition. Work readiness certificates are also not included in this definition. A credential is awarded in recognition of an individual's attainment of technical or occupational skills by:

• A State educational agency or a State agency responsible for administering vocational and technical education within a State;

• An institution of higher education described in Section 102 of the Higher Education Act (20 U.S.C. 1002) that is qualified to participate in the student financial assistance programs authorized by title IV of that Act. This includes community colleges, proprietary schools, and all other institutions of higher education that are eligible to participate in Federal student financial aid programs;

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities;

• A Registered Apprenticeship program;

• A public regulatory agency, upon an individual's fulfillment of educational, work experience, or skill requirements that are legally necessary for an individual to use an occupational or professional title or to practice an occupation or profession (e.g., FAA aviation mechanic certification, State certified asbestos inspector);

• A program that has been approved by the Department of Veterans Affairs to offer education benefits to veterans and other eligible persons;

• Job Corps centers that issue certificates or other credentials;

• Institutions of higher education which are formally controlled, or have been formally sanctioned, or chartered, by the governing body of an Indian Tribe or Tribes.

C. Reporting

Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each calendar year quarter. Grantees must use DOL's On-Line Electronic Reporting System and information and instructions will be provided to grantees.

2. Quarterly Performance Reports

The grantee must submit a quarterly progress report within 45 days after the end of each calendar year quarter. In order to submit these quarterly reports, the grantee will be expected to track participant-level data on the individuals who are involved in education/training and other services provided through the grant and report on participant status in a variety of fields and outcome categories, as well as provide narrative information on the status of the grant. The last quarterly progress report that grantees submit will serve as the grant's Final Performance Report. This report should provide both quarterly and cumulative information on the grant's activities. It must summarize project activities, employment outcomes and other deliverables, and related results of the project, and should thoroughly document the training or labor market information approaches utilized by the grantee. DOL will provide grantees with formal guidance about the data and other information that is required to be collected and reported on either a regular basis or special request basis. Grantees must agree to meet DOL reporting requirements.

3. Record Retention

Applicants must be prepared to follow Federal guidelines on record retention, which require grantees to maintain all records pertaining to grant activities for a period of not less than three years from the time of final grant close-out.

VII. Agency Contacts

For further information regarding this SGA, please contact Janice Sheelor, Grants Management Specialist, Division of Federal Assistance, at (202) 693-3538 (This is not a toll-free number). Applicants should e-mail all technical questions to Sheelor.Janice@dol.gov and must specifically reference SGA/DFA PY 09-07, and along with question(s), include a contact name, fax and phone number. This announcement is being made available on the ETA Web site at http://www.doleta.gov/grants and at http://www.grants.gov.

VIII. Additional Resources of Interest to Applicants

A. Web-Based Resources

DOL maintains a number of Web-based resources that may be of assistance to applicants. For example, the 2009 State Workforce Investment Act Plan modifications (http://www.doleta.gov/usworkforce/WIA/planstatus.cfm) and America's Service Locator (http://www.servicelocator.org), which provides a directory of our nation's One-Stop Career Centers.

B. Industry Competency Models and Career Clusters

ETA supports an Industry Competency Model Initiative to promote an understanding of the skill sets and competencies that are essential to an educated and skilled workforce. A competency model is a collection of competencies that, taken together, define successful performance in a particular work setting. Competency models serve as a starting point for the design and implementation of workforce and talent development programs. To learn about the industry-validated models visit the Competency Model Clearinghouse (CMC) at http://www.careeronestop.org/CompetencyModel. The CMC site also provides tools to build or customize industry models, as well as tools to build career ladders and career lattices.

Career Clusters and Industry Competency Models both identify foundational and technical competencies, but their efforts are not duplicative. The Career Clusters link to specific career pathways in sixteen career cluster areas and place greater emphasis on elements needed for curriculum performance objectives; measurement criteria; scope and sequence of courses in a program of study; and development of assessments. Information about the sixteen career cluster areas can be found by accessing: http://www.careerclusters.org.

C. Promising Training Approaches

ETA encourages applicants to research promising training approaches in order to inform their proposals. The following list of Web sites provides a starting place for this research, but by no means should be considered a complete list:

• ETA's Web site (http://www.doleta.gov) and the ETA Research Publication Database (http://wdr.doleta.gov/research/keyword.cfm);

• ETA's knowledge sharing site (http://www.workforce3one.org), including the “workforce solutions” section that contains over 6,000 additional resources applicants may find valuable in developing workforce strategies and solutions;

• The National Governors Association Center for Best Practices (http://www.nga.org);

• The National Association of State Workforce Agencies (http://www.workforceatm.org); and

• The National Association of Workforce Boards (http://www.nawb.org).

IX. Other Information

OMB Information Collection No. 1225-0086, Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue, NW, Room N1301, Washington, DC 20210. Comments may also be e-mailed to DOL_PRA_PUBLIC@dol.gov. Please do not return the completed application to this address. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the application is not considered to be confidential.

Signed at Washington, DC, this 10th day of March 2010.
Donna Kelly,
Grant Officer,Employment and Training Administration.

[FR Doc. 2010-5609 Filed 3-12-10; 8:45 am]

BILLING CODE 4510-FN-P